DEPARTMENT OF THE INTERIOR

National Park Service

National Register of Historic Places; Notification of Pending Nominations and Related Actions

Nominations for the following properties being considered for listing or related actions in the National Register were received by the National Park Service before May 6, 2006. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 7, 2006.

John W. Roberts,
Acting Chief, National Register/National Historic Landmarks Program.

ALASKA

Prince of Wales—Outer K. Borough—Census Area

Hydaburg Totem Park, 5th and Main Sts., Hydaburg, 06000491

FLORIDA

Monroe County

Angustias Shipwreck Site, (1733 Spanish Plate Fleet Shipwrecks MPS) Approx. 1 mi. So U.S. 1 in Long Key Channel, Layton, 06000492

Chavez Shipwreck Site, (1733 Spanish Plate Fleet Shipwrecks MPS) seaward end of Snake Creek off Windley Key, Islamorada, 06000493

El Gallo Indiano Shipwreck Site, (1733 Spanish Plate Fleet Shipwrecks MPS) seaward end of channel #5 bet. Graig Key and Long Key, Layton, 06000494

El Infante Shipwreck Site, (1733 Spanish Plate Fleet Shipwrecks MPS) 4 mi. offshore Plantation Key, Plantation, 06000496

El Rubi Shipwreck Site, (1733 Spanish Plate Fleet Shipwrecks MPS) 4 mi. offshore Plantation Key, Tavernier, 06000497

Herrara Shipwreck Site, (1733 Spanish Plate Fleet Shipwrecks MPS) 2½ mi. offshore Whale Harbor, Islamorada, 06000495

Populo, (1733 Spanish Plate Fleet Shipwrecks MPS) Biscayne National Park, Homestead, 06000498

San Francisco Shipwreck Site, (1733 Spanish Plate Fleet Shipwrecks MPS) seaward end of Channel #2 off Craig Key, Layton, 06000499

Sueco de Arizon Shipwreck Site, (1733 Spanish Plate Fleet Shipwrecks MPS) 1600 yards offshore Conch Key, Layton, 06000500

Tres Puentes Shipwreck Site, (1733 Spanish Plate Fleet Shipwrecks MPS) seaward edge of Hawk Channel of Islamorada, Islamorada, 06000501

St. Johns County

Hastings High School, 6195 S. Main St., Hastings, 06000502

GEORGIA

Fulton County

Pittsburgh Historic District, Roughly bordered by Shelton Ave. Stewart Ave., University Ave., and the RR Atlanta, 06000503

Hall County

Bailey-Harper House—Doctors Building, 204 Green St., NE, Gainesville, 06000504

NEW HAMPSHIRE

Hillsborough County

Stark Park, Bounded by N. River Rd., Park Ave., and Merrimack R, Manchester, 06000505

PUERTO RICO

San Juan Municipality

Gran Logia Espiritual Numero 1, 1612 Antonsanti St., San Juan, 06000507

Supreme Court Building, Luis Munoz Rivera Park, San Juan, 06000506

TEXAS

Anderson County

Old Town Residential Historic District, (Palestine, Texas MPS) Rougly surrounded by Lacey St., Palestine, 06000509

Bexar County

Miraflores Park, (Sculpture by Dionicio Rodriguez in Texas MPS) 800 Hildebrand, San Antonio, 06000514

Dallas County

Lemmon, Mark and Maybelle, House, 3211 Mockingbird Ln., Highland Park, 06000513

Matagorda County

Bay City USO Building, 2105 Ave. M, Bay City, 06000512

Matagorda Cemetery, Jct. of TX 60 at Matagorda Cty Rds 259 and 260, Matagorda, 06000511

San Augustine County

San Augustine Residential Historic District, Roughly surrounding TX 147, TX 3230 and TX 2213, San Augustine, 06000508

Tarrant County

Our Mother of Mercy School, 801 Verbena St., Fort Worth, 06000510

[FR Doc. E6-7845 Filed 5-22-06; 8:45 am]

BILLING CODE 4312-51-P